DEPARTMENT OF COMMERCE

International Trade Administration

[A-475-820, A-588-843, A-580-829, A-469-807, A-401-806, A-583-828]

Continuation of Antidumping Duty Orders: Stainless Steel Wire Rod From Italy, Japan, Korea, Spain, Sweden, and Taiwan

AGENCY: Import Administration, International Trade Administration, Department of Commerce.

ACTION: Notice of Continuation of Antidumping Duty Orders: Stainless Steel Wire Rod from Italy, Japan, Korea, Spain, Sweden, and Taiwan.

SUMMARY: As a result of the determinations by the Department of Commerce (“the Department”) and the International Trade Commission (“Commission”) that revocation of these antidumping duty orders would be likely to lead to continuation or recurrence of dumping and material injury to an industry in the United States, the Department is publishing notice of the continuation of the antidumping duty orders on stainless steel wire rod (“SSWR”) from Italy, Japan, Korea, Spain, Sweden, and Taiwan.

EFFECTIVE DATE: September 13, 2004.

FOR FURTHER INFORMATION CONTACT: Hilary E. Sadler, Esq., Office of Policy, Import Administration, International Trade Administration, U.S. Department of Commerce, 14th Street and Constitution Ave., NW., Washington, DC 20230; telephone: (202) 482-5050 or 482-4340.

SUPPLEMENTARY INFORMATION:

Background

On August 1, 2003, the Department initiated ¹ and the Commission instituted sunset reviews of the antidumping duty orders on SSWR from Italy, Japan, Korea, Spain, Sweden, and Taiwan pursuant to section 751(c) of the Tariff Act of 1930, as amended (“Act”). As a result of its review, the Department found that revocation of the antidumping duty orders would be likely lead to continuation or recurrence of dumping and notified the Commission of the magnitude of the margins likely to prevail were the orders to be revoked.²

¹ See Initiation of Five-Year (“Sunset”) Reviews, 68 FR 45219 (August 1, 2003).

² See SSWR from Italy; Final Results of the Sunset Review of Antidumping Duty Order, 68 FR 68862 (December 10, 2003); SSWR from Italy; Final Results of the Sunset Review of Countervailing Duty Order, 69 FR 40354 (July 2, 2004); SSWR from Japan; Final Results of Expedited Sunset Review of Antidumping Duty Order, 68 FR 68864 (December 10, 2003); SSWR from South Korea; Final Results of Expedited Sunset Review of Antidumping Duty Order, 68 FR 68863 (December 10, 2003); SSWR from Spain; Final Results of Expedited Sunset Review of Antidumping Duty Order, 68 FR 68866 (December 10, 2003); SSWR from Sweden; Final Results of Expedited Sunset Review of Antidumping Duty Order, 68 FR 68860 (December 10, 2003); SSWR from Taiwan; Final Results of the Sunset Review of Antidumping Duty Order, 68 FR 68865 (December 10, 2003) (collectively “Department's Final Results”).

On July 28, 2004, the Commission determined, pursuant to section 751(c) of the Act, that revocation of the antidumping duty orders on SSWR from Italy, Japan, Korea, Spain, Sweden, and Taiwan would be likely to lead to continuation or recurrence of material injury to an industry in the United States within a reasonably foreseeable time. See SSWR from Italy, Japan, Korea, Spain, Sweden, and Taiwan, 69 FR 45077 (July 28, 2004), USITC Publication 3702 (July 2004) (Investigation No. 731-TA-770 (Review)).

Scope of the Orders

For purposes of these reviews, the product covered is stainless steel wire rod (“SSWR” or “subject merchandise”). SSWR comprises products that are hot-rolled or hot-rolled annealed and/or pickled and/or descaled rounds, squares, octagons, hexagons, or other shapes, in coils, that may also be coated with a lubricant containing copper, lime, or oxalate. SSWR is made of alloy steels containing, by weight, 1.2 percent or less of carbon and 10.5 percent or more of chromium, with or without other elements. These products are manufactured only by hot-rolling or hot-rolling, annealing, and/or pickling and/or descaling, and are normally sold in coiled form, and are of solid cross-section. The majority of SSWR sold in the United States is round in cross-sectional shape, annealed and pickled, and later cold-finished into stainless steel wire or small-diameter bar. The most common size for such products is 5.5 millimeters or 0.217 inches in diameter, which represents the smallest size that normally is produced on a rolling mill and is the size that most wire drawing machines are set up to draw. The range of SSWR sizes normally sold in the United States is between 0.20 inches and 1.312 inches in diameter. Two stainless steel grades, SF20T and K-M35FL, are excluded from the scope of the orders. The percentages of chemical makeup for the excluded grades are as follows:

SF20T:
Carbon | 0.05 max
Manganese | 2.00 max
Phosphorous | 0.05 max
Sulfur | 0.15 max
Silicon | 1.00 max
Chromium | 19.00/21.00
Molybdenum | 1.50/2.50
Lead | added (0.10/0.30)
Tellurium | added (0.03 min)
K-M35FL:
Carbon | 0.015 max
Manganese | 0.40 max
Phosphorous | 0.04 max
Sulfur | 0.03 max
Silicon | 0.70/1.00
Chromium | 12.50/14.00
Nickel | 0.30 max
Lead | added (0.10/0.30)
Aluminum | 0.20/0.35

The products covered by these orders are currently classifiable under subheadings 7221.00.0005, 7221.00.0015, 7221.00.0030, 7221.00.0045, and 7221.00.0075 of the Harmonized Tariff Schedule of the United States (HTSUS). Although the HTSUS subheadings are provided for convenience and customs purposes, the written description of the scope of these orders is dispositive.

Determination

As a result of the determinations by the Department and the Commission that revocation of these antidumping duty orders would be likely to lead to continuation or recurrence of dumping and material injury to an industry in the United States, pursuant to section 751(d)(2) of the Act, the Department hereby orders the continuation of the antidumping duty orders on SSWR from Italy, Japan, Korea, Spain, Sweden, and Taiwan.

The Department will continue to instruct Customs and Border Protection to collect antidumping duty deposits at the rates in effect at the time of entry for all imports of subject merchandise. Pursuant to section 751(c)(2) of the Act, the Department intends to initiate the next five-year review of these antidumping orders not later than July 2009.

Dated: August 5, 2004.
Joseph A. Spetrini,
Acting Assistant Secretary for Import Administration.

[FR Doc. 04-18546 Filed 8-12-04; 8:45 am]

BILLING CODE 3510-DS-P